DEPARTMENT OF COMMERCE

National Oceanic and Atmospheric Administration

[I.D. 121106D]

Endangered Species; File No. 1557-01

AGENCY: National Marine Fisheries Service (NMFS), National Oceanic and Atmospheric Administration (NOAA), Commerce.

ACTION: Notice; issuance of permit modification.

SUMMARY: Notice is hereby given that Molly Lutcavage, Department of Zoology, 177 A Spaulding Hall, University of New Hampshire, Durham, NH 03824-2617, has been issued a modification to File No. 1557.

ADDRESSES: The permit and related documents are available for review upon written request or by appointment in the following office(s):

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9200; fax (978)281-9371.

FOR FURTHER INFORMATION CONTACT: Patrick Opay or Kate Swails, (301)713-2289.

SUPPLEMENTARY INFORMATION: On October 20, 2006, notice was published in the Federal Register (71 FR 61959) that a request for a scientific research permit to take leatherback sea turtles had been submitted by the above-named individual. The requested permit has been issued under the authority of the Endangered Species Act of 1973, as amended (ESA; 16 U.S.C. 1531 et seq.) and the regulations governing the taking, importing, and exporting of endangered and threatened species (50 CFR parts 222-226).

The primary purpose of the proposed research is to investigate leatherback sea turtle regional behavior and movements in near-shore waters of the Atlantic Ocean off the United States and to identify their dispersal in relation to oceanographic conditions and fishing activities. The research will also help establish baseline health assessments, genetic identities, sex ratios, and stable isotope composition of leatherback sea turtle tissues and prey. Researchers will conduct research on up to 12 leatherback sea turtles annually. Researchers will use animals that have been captured using a breakaway hoopnet. Turtles will be measured, weighed, photographed and video taped, flipper and passive integrated transponder tagged, blood sampled, cloacal swabbed, nasal swabbed, skin sampled, tagged with electronic instruments (e.g., satellite transmitters), and released. The research permit is issued for 5 years.

The permit modification authorizes the permit holder to work in the area between Cape Canaveral, Florida to Savannah, Georgia. The permit holder currently conducts research June to October and the modification provides authorization to conduct research during February and March as well. No increase in take numbers is requested and all other aspects of the research remain the same.

Issuance of this permit, as required by the ESA, was based on a finding that such permit (1) was applied for in good faith, (2) will not operate to the disadvantage of any endangered or threatened species, and (3) is consistent with the purposes and policies set forth in section 2 of the ESA.

Dated: January 16, 2007.
P. Michael Payne,
Chief, Permits, Conservation and Education Division, Office of Protected Resources, National Marine Fisheries Service.

[FR Doc. E7-740 Filed 1-19-07; 8:45 am]

BILLING CODE 3510-22-S